DEPARTMENT OF COMMERCE

National Oceanic and Atmospheric Administration

50 CFR Part 660

[Docket No. 010509116-116-01; I.D. 042301B]

Fisheries off West Coast States and in the Western Pacific; Pacific Coast Groundfish Fishery; Restrictions on Frequency of Limited Entry Permit Transfers; Corrections

AGENCY: National Marine Fisheries Service (NMFS), National Oceanic and Atmospheric Administration (NOAA), Commerce.

ACTION: Corrections to proposed rule.

SUMMARY: This document corrects the Classification section of the preamble to a proposed rule which was published on May 30, 2001. This rule would revise restrictions on the frequency and timing of limited entry permit transfers and would clarify NMFS regulatory requirements for transferring limited entry permits.

DATES: Effective June 19, 2001.

FOR FURTHER INFORMATION CONTACT: Yvonne deReynier, NMFS,(206) 526-6140.

SUPPLEMENTARY INFORMATION:

Background

The proposed rule, published in the Federal Register on May 30, 2001 (66 FR 29276), which proposed to revise restrictions on the frequency and timing of limited entry permit transfers and to clarify NMFS regulatory requirements for transferring limited entry permits, did not contain language related to collection-of-information requirements subject to review and approval by the Office of Management and Budget (OMB) under the Paperwork Reduction Act (PRA). This document corrects this omission.

Corrections

As published, the proposed rule FR Doc. 01-13525, May 30, 2001, (66 FR 29276), contains errors of omission and needs to be corrected.

On page 29278, in the first column under Classification, after the last paragraph, add the following paragraphs to read as follows:

“This proposed rule contains collection-of-information requirements subject to review and approval by OMB under the PRA. The requirements for limited entry permit applications, permit transfer applications, and appeals have been approved under OMB control number 0648-0203. Public reporting burden for each of these collections of information is estimated to average 20 minutes per individual response, including the time for reviewing instructions, searching existing data sources, gathering and maintaining the data needed, and completing and reviewing the collection of information. Send comments regarding this burden estimate, or any other aspect of these data collections, including suggestions for reducing the burden to NMFS at the ADDRESSES above, and to OMB at the Office of Information and Regulatory Affairs, OMB, Washington, DC. 20503 (Attention: NOAA Desk Officer).

Notwithstanding any other provision of the law, no person is required to respond to, nor shall any person be subject to a penalty for failure to comply with, a collection of information subject to the requirements of the PRA, unless that collection of information displays a currently valid OMB Control Number.”

Dated: June 14, 2001.
William T. Hogarth,
Acting Assistant Administrator for Fisheries, National Marine Fisheries Service.

[FR Doc. 01-15437 Filed 6-18-01; 8:45 am]

BILLING CODE 3510-22-S